U.S. AGENCY FOR INTERNATIONAL DEVELOPMENT

Senior Executive Service: Membership of Performance Review Board

ACTION: Notice.

SUMMARY: This notice lists approved candidates who will comprise a standing roster for service on the Agency's 2015 and 2016 SES Performance Review Boards. The Agency will use this roster to select SES board members, and an outside member for the convening SES Performance Review Board each year. The standing roster is as follows:

Allen, Colleen

Broderick, Deborah

Chan, Carol

Chapotin, Saharah Moon

Detherage, Maria

Feinstein, Barbara

Foley, Jason

Girod, Gayle

Hunt, Juan Carlos

Jenkins, Robert

Kolmstetter, Elizabeth

Kuyumjian, Kent

Leavitt, William

Mahanand, Vedjai

Martin-Wallace, Valencia, U.S. Patent and Trade Office

Miranda, Roberto

Mitchell Reginald

Pascocello, Susan

Sampler, Donald

Simpkins, John

Steele, Gloria

Sumilas, Michele

Vera, Mauricio

Walther, Mark

Warren, Gordon

Webb, Mark

Whyche-Shaw, Oren

FOR FURTHER INFORMATION CONTACT:

Maryclare Whitehead, 202-216-3489.

Dated: September 2, 2015.
Karen Baquedano,
Acting Director, Center for Performance Excellence.

[FR Doc. 2015-22796 Filed 9-9-15; 8:45 am]

BILLING CODE P